DEPARTMENT OF ENERGY

Federal Energy Regulatory Commission

[Project No. 14698-001]

Shenango Dam Hydroelectric Company, LLC; Notice of Surrender of Preliminary Permit

Take notice that Shenango Dam Hydroelectric Company, LLC, permittee for the proposed Shenango Hydroelectric Project, has requested that its preliminary permit be terminated. The permit was issued on December 2, 2015, and would have expired on November 30, 2018.¹ The project would have been located at the U.S. Army Corps of Engineers' Shenango dam on the Shenango River, near the Borough of Sharpsburg, Mercer County, Pennsylvania.

¹ 153 FERC ¶ 62,155 (2015).

The preliminary permit for Project No. 14698 will remain in effect until the close of business, July 30, 2017. But, if the Commission is closed on this day, then the permit remains in effect until the close of business on the next day in which the Commission is open.² New applications for this site may not be submitted until after the permit surrender is effective.

² 18 CFR 385.2007(a)(2) (2016).

Dated: June 30, 2017.
Kimberly D. Bose,
Secretary.

[FR Doc. 2017-14336 Filed 7-7-17; 8:45 am]

BILLING CODE 6717-01-P